DEPARTMENT OF DEFENSE

Office of the Secretary

[Transmittal No. 25-0K]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0K.

Dated: January 22, 2026.
Stephanie J. Bost,
Alternate OSD Federal Register Liaison Officer, Department of Defense.

BILLING CODE 6001-FR-P

BILLING CODE 6001-FR-C

Transmittal No. 25-0K

REPORT OF ENHANCEMENT OR UPGRADE OF SENSITIVITY OF TECHNOLOGY OR CAPABILITY (SEC. 36(B)(5)(C), AECA)

(i) Prospective Purchaser: Government of Iraq

(ii) Sec. 36(b)(1), AECA Transmittal No.: 23-63

Date: November 2, 2023

Military Department: Army

Funding Source: National Funds

(iii) Description: On November 2, 2023, Congress was notified by congressional certification transmittal number 23-63 of the possible sale, under Section 36(b)(1) of the Arms Export Control Act, of additional services, as indicated below, that were added to a previously implemented case whose value was under the congressional notification threshold. The original FMS case, valued at $28 million, included a Bell Contractor Logistics Support (CLS) and Field Service Representative (FSR) contract. This notification was for the combined CLS and FSR maintenance support for the following Bell aircraft: three (3) 407 variants, 206B3, OH-58A/C Kiowa, Huey II, and 505. The following was also included: United States (U.S.) Government and contractor engineering, technical and logistics support services; studies and surveys; and other related elements of logistics and program support. The estimated total cost was $300 million. There was no Major Defense Equipment (MDE) associated with this sale.

This transmittal notifies the addition of the following non-MDE items: Contractor Logistics Support (CLS) and Field Service Representative (FSR) support for all variations of the Bell 412 aircraft. The estimated total value of the new items is $200 million, resulting in a non-MDE and total case value increase of $200 million to $500 million. No MDE will be associated with this sale.

(iv) Significance: The proposed services will support the Iraq Army Aviation Command's rotary wing program to meet current and future threats by enhancing the strength of its homeland defense.

(v) Justification: This proposed sale will support the foreign policy and national security of the U.S. by helping to improve the security of a strategic partner.

(vi) Sensitivity of Technology:

The Sensitivity of Technology statement contained in the original notification applies to items reported here.

The highest level of classification of defense articles, components, and services included in this potential sale is UNCLASSIFIED.

(vii) Date Report Delivered to Congress: September 17, 2025

[FR Doc. 2026-01505 Filed 1-26-26; 8:45 am]

BILLING CODE 6001-FR-P